THE BROADCASTING BOARD OF GOVERNORS

Privacy Act of 1974; Amendments to Existing System of Records

AGENCY: The Broadcasting Board of Governors.

ACTION: Notice of Amendments to an Existing System of Records.

SUMMARY: In accordance with the Privacy Act of 1974 (5 U.S.C. 552a), as amended, the Broadcasting Board of Governors (BBG) proposes to amend the system of records currently listed under “BBG-13 M/PT—Office of Personnel (Training and Development Division).” The amended system of records notice includes updates to reflect organizational changes within the BBG, includes records on contractor training registration, and includes other administrative changes.

DATES: This action will be effective without further notice on October 14, 2015, unless comments are received that would result in a contrary determination.

ADDRESSES: Send written comments to the Broadcasting Board of Governors, ATTN: Paul Kollmer, Chief Privacy Officer, 330 Independence Avenue, Room 3349, Washington, DC 20237.

FOR FURTHER INFORMATION CONTACT: David Milligan, Director of the Office of Workforce Support and Development, (202) 203-4500

Dated: September 1, 2015.
André Mendes,
Interim CEO and Director, BBG.

BBG 13—Office of Workforce Support and Development

System name:

OWSDS—Office of Workforce Support and Development System

Security classification:

None.

System location:

Office of Workforce Support and Development, Broadcasting Board of Governors, International Broadcasting Bureau, 330 C St. SW., Washington, DC 20237.

Categories of individuals covered by the system:

BBG employees and contractor personnel receiving Agency-provided training.

Categories of records in the system:

Employee and contractor personnel training registration data, applications, biographic data, educational backgrounds, training records, training program outlines, evaluations of training courses.

Authority for maintenance of the system:

The United States Information and Educational Exchange Act of 1948, as amended (22 U.S.C. 1431, et seq.); the U.S. International Broadcasting Act of 1994, as amended (22 U.S.C. 6201, et seq.); and the Foreign Affairs Consolidation Act of 1998 (Pub. L. 105-277).

Routine uses of records maintained in the system, including categories of users and the purposes of such uses:

Background material used to determine eligibility for training; justification for training reports and record-keeping; evaluation and selection of lecturers and contractors to provide training; preparation of reports to Congress and other Government agencies on training provided and training costs, as well as projected training needs and costs.

Information is made available on a need-to-know basis to personnel of the BBG as may be required in the performance of their official duties. The principal users of this information outside the BBG are personnel officers in other Government agencies as a result of transfer, detail, or reassignment of the individual to whom the record pertains, other agencies considering employees for detail or transfer, and investigators performing their job functions.

The information may also be released to other Government agencies that have statutory or other lawful authority to maintain such information. Also see Statement of General Routine Uses.

Policies and practices for storing retrieving, accessing, retaining, and disposing of records in the system:

Storage: Paper records stored in file folders and file cabinets. Computer records stored on computer drives.

Retrievability: Manually retrieved by name, by computer generated lists of training statistics, or by training course title or description.

Safeguards: Access to files is limited only to authorized BBG employees having an official use or need for the information. All files are maintained in locked file cabinets during non-duty hours and are protected by office personnel when being used during duty hours. All files are contained within a secure building with access only to individuals with appropriate identification. All users of personal information in connection with the performance of their jobs protect information from public view and from unauthorized personnel entering an unsupervised office or workspace.

Retention and disposal: Training records maintained until employee is separated, until records are no longer needed, or otherwise as directed by the General Records Schedule. Budget records and cost statistics are kept for three to five years or otherwise as directed by the General Records Schedule.

System manager(s) and address:

Director, Office of Workforce Support and Development, Broadcasting Board of Governors, International Broadcasting Bureau, 330 C St. SW. Washington, DC 20237.

Notification procedures:

Individuals who want to know whether this system of records contains information about them, or who want access to their records, or who want to contest the contents of a record, should make a written request to: FOIA/Privacy Act Officer, BBG, Suite 3349, 330 Independence Ave. SW. Washington, DC 20237. Individuals' requests should contain the name and address of the system manager (listed above) and the following information to enable their records to be located and identified:

A. Full legal name;

B. Date of Birth;

C. Social Security Number;

D. Last employing organization (include duty station location) and the approximate dates of employment or contact; and

E. Signature.

Record access procedures:

Individuals wishing to request access to their records should follow the Notification Procedures (listed above). Individuals requesting access will also be required to provide adequate identification, such as driver's license, employee identification card, and/or other identifying document. Additional identification procedures may be required in some instances. A notarized signature is required if the request is made by written correspondence. To request a file other than your own, you must have a notarized, signed statement giving you express permission to access the file from the individual to whom the file pertains.

Contesting record procedures:

The BBG's rules for access and for contesting record contents and appealing determinations appear in 22 CFR part 505. The right to contest records is limited to information that is incomplete, irrelevant, erroneous or untimely.

Record source categories:

The employee; training applications and records; training officers and other individuals involved in personnel management; supervisors; contracting officer representatives; trainee evaluations.

Exemptions claimed for the system:

Certain records contained within this system of records may be exempted by 5 U.S.C. 552a(k)(2); (k)(4); (k)(5); and (k)(6).

[FR Doc. 2015-22086 Filed 9-3-15; 8:45 am]

BILLING CODE 8610-01-P